DEPARTMENT OF ENERGY

Federal Energy Regulatory Commission

[Docket No. CP00-446-000]

The Montana Power Company; Notice of Application to Amend Presidential Permit

August 30, 2000.

Take notice that on August 24, 2000, Montana Power Company (MPC) filed an application in Docket No. CP00-446-000, pursuant to Part 153 of the Commission's Regulations and Executive Order No. 10485, as amended by Executive Order 12038, for an amended Presidential Permit (Docket No. G-17370) to allow use of its Carway, Montana border facilities for both the importation and exportation of natural gas to Canada, all as more fully set forth in the application which is on file with the Commission and which is open to the public for inspection. The filing may be viewed at http://www.ferc.fed.us/online/rims.htm (call 202-208-2222 for assistance).

Any questions regarding the application should be directed to William A. Pascoe, Vice President of Gas Operations, 40 East Broadway, Butte, Montana, 59703, (402) 497-4212.

The border facilities covered by the existing Presidential Permit consist of that portion of the 16-inch pipeline, extending approximately 51 miles from near Cut Bank, Montana, to the border, where it connects with a 16-inch pipeline extending northerly into the Province of Alberta, Canada. MPC's border facilities interconnect with the 16-inch pipeline owned by MPC's subsidiary, Canadian-Montana Pipe Line Company.

MPC states that due to changing market conditions and modifications to its Cobb natural gas storage facility in Montana, the Carway meter station in Alberta, Canada, owned by Nova Gas Transmission Ltd. (Nova) will be modified by Nova to provide bi-directional metering capability. MPC also states that there will be no construction or facility modification to or at the connections with the border facilities. Therefore, MPC requests amendment to Permit Article 3 to allow such use.

MPC requests that expeditious approval to permit bi-directional service be granted by the Commission no later than November 1, 2000.

Any person desiring to be heard or to make protest with reference to said application should on or before September 20, 2000, file with the Federal Energy Regulatory Commission, 888 First Street, N.E., Washington, DC 20426, a motion to intervene or a protest in accordance with the requirements of the Commission's Rules of Practice and Procedure (18 CFR 385.214 and 385.211). All protests filed with the Commission will be considered by it in determining the appropriate action to be taken, but will not serve to make the protestants parties to the proceeding. Any person wishing to become a party to a proceeding or a participate as a party in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filings it makes with the Commission to every other intervenor in the proceeding, as well as an original and 14 copies with the Commission.

A person does not have to intervene, however, in order to have environmental comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its motion believes that a formal hearing is required, further notice of such hearing will be duly given.

Under the procedure herein provided for, unless otherwise advised, it will be unnecessary for MPC to appear on be represented at the hearing.

Linwood A. Watson, Jr.,
Acting Secretary.

[FR Doc. 00-22713 Filed 9-5-00; 8:45 am]

BILLING CODE 6717-01-M